DEPARTMENT OF AGRICULTURE

Forest Service

Central Idaho Resource Advisory Committee Salmon-Challis National Forest Butte, Custer, and Lemhi Counties, Idaho

AGENCY: Forest Service, USDA.

SUMMARY: The Central Idaho Resource Advisory Committee will meet at 1:30 p.m., July 26, 2002 at the Salmon-Challis National Forest Supervisor's Office, Highway 93 South, Salmon Idaho.

The 15 member committee will be evaluating proposed projects and recommending projects to the Salmon-Challis National Forest. The committee will also discuss individual project proposals for 2002. The meeting is open to the public and time will be scheduled for public comments.

The Central Idaho Resource Advisory Committee was established by the Secretary of Agriculture under Title II of the Secure Rural Schools and Community Self-Determination Act of 2000 to work collaboratively with the Salmon-Challis National Forest to provide advice and recommendations consistent with the purposes of the Act.

George P. Matejko,
Forest Supervisor, Salmon-Challis National Forest, Designated Federal Official.

[FR Doc. 02-18430 Filed 7-19-02; 8:45 am]

BILLING CODE 3410-11-M